DEPARTMENT OF DEFENSE

Office of the Secretary

Draft Deputy Secretary of Defense Policy Memorandum, Subject: Ensuring the Quality of Information Disseminated by the Department of Defense

AGENCY: Assistant Secretary of Defense for Command, Control, Communication, and Intelligence, DoD.

ACTION: Notice of availability; extension of comment period.

SUMMARY: On Tuesday, April 30, 2002, the Department of Defense published in the Federal Register (67 FR 21229) a notice of availability on its draft policies for ensuring the quality of information disseminated by the Department of Defense. The draft Policy Memorandum is available on the Assistant Secretary of Defense for Command, Control, and Communications, and Intelligence (ASD(C3I)) public Web site located at http://www.c3i.osd.mil/org/cio/index.html. That notice provided a public comment period ending May 30, 2002. This notice is being published to announce the extension of the public comment period until July 1, 2002.

DATES: Consideration will be give to all comments received on or before July 1, 2002.

ADDRESSES: Submit comments to Ellen Law, OASD(C3I), Office of the Assistant Secretary of Defense for Command, Control, Communications, and Intelligence/Chief Information Officer, 6000 Defense Pentagon, Washington, DC 20301-6000.

FOR FURTHER INFORMATION CONTACT: Ms. Ellen Law, OASD(C3I), 703-602-0980 Ext. 121, Ellen.law@osd.mil.

Dated: May 31, 2002.
Patricia L. Toppings,
Alternate OSD Federal Register Liaison Officer, Department of Defense.

[FR Doc. 02-14024 Filed 5-31-02; 11:48 am]

BILLING CODE 5001-08-M